DEPARTMENT OF THE INTERIOR

Bureau of Land Management

[MT-030-1320-EL, NDM 91535]

Notice of Competitive Coal Lease Sale, North Dakota

AGENCY: Bureau of Land Management, Interior.

ACTION: Notice of competitive coal lease sale.

SUMMARY: Notice is hereby given that the coal reserves in the lands described below in Mercer County, North Dakota, will be offered for competitive lease by sealed bid in accordance with the provisions of the Mineral Leasing Act of 1920, as amended (30 U.S.C. 181 et seq.).

DATES: The lease sale will be held at 11 a.m., Thursday, March 2, 2006. Sealed bids must be submitted on or before 10 a.m., March 2, 2006.

ADDRESSES: The lease sale will be held in the 920 Conference Room, of the Bureau of Land Management (BLM) Montana State Office, 5001 Southgate Drive, Billings, Montana 59101. Sealed bids clearly marked “Sealed Bid for NDM 91535 Coal Sale—Not to be opened before 11 a.m., Thursday, March 2, 2006” must be submitted to the Cashier, BLM Montana State Office, at the address given above.

FOR FURTHER INFORMATION CONTACT: Connie Schaff, Land Law Examiner, or Rebecca Spurgin, Acting Chief, Branch of Solid Minerals, at 406-896-5060 or 406-896-5080, respectively.

SUPPLEMENTARY INFORMATION: This sale is being held in response to a lease by application filed by The Coteau Properties Company. The Federal coal resources to be offered consists of all recoverable reserves in the following described lands:

T. 144 N., R. 88 W., 5th P. M.

Sec. 2: Lots 3, 4, S½NW¼

Sec. 4: Lots 1, 2, S½NE¼, S½

Sec. 6: Lots 1-7, S½NE¼, SE¼NW¼, E½SW¼, SE¼

Sec. 8: N½NE¼, SE¼NE¼, NW¼, N½SW¼

T. 144 N., R. 89 W., 5th P. M.

Sec. 12: E½

T. 145 N., R. 88 W., 5th P. M.

Sec. 4: Lots 1, 2, S½NE¼, SE¼

Sec. 10: N½

Sec. 14: All

Sec. 22: All

Sec. 26: N½NE¼, SW¼NE¼, W½, NW¼SE¼

Sec. 28: E½NE¼, SW¼NE¼, SE¼NW¼, S½

Sec. 34: N½N½, SE¼NE¼, SW¼, E½SE¼, SW¼ SE¼

The 5,333.56-acre tract, located in Mercer County, North

Dakota, contains an estimated 89 million tons of recoverable coal reserves. For NDM 91535, the tract averages 17.3 feet in thickness with an average overburden depth of 117 feet, 6,864 BTU/lb. in heating value and 0.83% sulphur content.

The tracts will be leased to the qualified bidder of the highest cash amount provided that the high bid meets or exceeds the BLM's estimate of the estimated fair market value of the tract. The minimum bid for the tracts is $100 per acre or fraction thereof. No bid that is less than $100 per acre, or fraction thereof, will be considered. The minimum bid is not intended to represent fair market value. The fair market value will be determined by the Authorized Officer after the sale. The bids should be sent by certified mail, return-receipt requested, or be hand-delivered. The cashier will issue a receipt for each hand-delivered bid. Bids received after 10 a.m., Thursday, March 2, 2006, will not be considered.

If identical high bids are received, the tying high bidders will be requested to submit follow-up sealed bids until a high bid is received. All tie-breaking sealed-bids must be submitted within 15 minutes following the Sale Official's announcement at the sale that identical high bids have been received.

A lease issued as a result of this offering will provide for payment of an annual rental of $3 per acre, or fraction thereof; and a royalty payable to the United States of 12.5 percent of the value of coal mined by surface methods and 8.0 percent of the value of coal mined by underground methods.

Bidding instructions for the tracts offered and the terms and conditions of the proposed coal lease are included in the Detailed Statement of Lease Sale. Copies of the statement and the proposed coal lease are available at the Montana State Office. Casefile NDM 91535 is also available for public inspection at the Montana State Office.

Dated: January 5, 2006.
Rebecca Spurgin,
Acting Chief, Branch of Solid Minerals.

[FR Doc. E6-2613 Filed 2-23-06; 8:45 am]

BILLING CODE 4310-$$-P